NATIONAL SCIENCE FOUNDATION

Sunshine Act Meeting; National Science Board

The National Science Board's Committee on Awards and Facilities, pursuant to NSF regulations (45 CFR part 614), the National Science Foundation Act, as amended (42 U.S.C. 1862n-5), and the Government in the Sunshine Act (5 U.S.C. 552b), hereby gives notice of the scheduling of a teleconference for the transaction of National Science Board business, as follows:

Date and Time: April 10, 2017 from 4:00-5:00 p.m. EDT.

Subject Matter: (1) Committee Chair's opening remarks; (2) NEON update including scenarios for operations and maintenance.

Status: Closed.

This meeting will be held by teleconference at the National Science Foundation, 4201 Wilson Blvd., Arlington, VA 22230. Please refer to the National Science Board Web site www.nsf.gov/nsb for additional information. Meeting information and updates (time, place, subject or status of meeting) may be found at http://www.nsf.gov/nsb/meetings/notices.jsp. Point of contact for this meeting is: Elise Lipkowitz, 4201 Wilson Blvd., Arlington, VA 22230. Telephone: (703) 292-7000.

Chris Blair,
Executive Assistant to the NSB Office.

[FR Doc. 2017-06191 Filed 3-24-17; 4:15 pm]

BILLING CODE 7555-01-P